DEPARTMENT OF THE TREASURY

Office of Foreign Assets Control

Sanctions Actions Pursuant to the Foreign Narcotics Kingpin Designation Act

AGENCY: Office of Foreign Assets Control, Department of the Treasury.

ACTION: Notice.

SUMMARY: The U.S. Department of the Treasury's Office of Foreign Assets Control (OFAC) is publishing the names of persons whose property and interests in property are blocked pursuant to the Foreign Narcotics Kingpin Designation Act (Kingpin Act).

DATES: OFAC's actions described in this notice were effective on August 9, 2017.

FOR FURTHER INFORMATION CONTACT: OFAC: Associate Director for Global Targeting, tel.: 202-622-2420; Assistant Director for Licensing, tel.: 202-622-2480, Assistant Director for Regulatory Affairs, tel.: 202-622-4855, Assistant Director for Sanctions Compliance & Evaluation, tel.: 202-622-2490; or the Department of the Treasury's Office of the General Counsel: Office of the Chief Counsel (Foreign Assets Control), tel.: 202-622-2410 (not toll free numbers).

SUPPLEMENTARY INFORMATION:

Electronic Availability

The list of Specially Designated Nationals and Blocked Persons (SDN List) and additional information concerning OFAC sanctions programs are available on OFAC's Web site at http://www.treasury.gov/ofac.

Notice of OFAC Actions

On August 9, 2017, OFAC's Acting Director determined that the property and interests in property of the following persons are blocked pursuant to the Kingpin Act and placed them on the SDN List.

Individuals

1. ALVAREZ MONTELONGO, Julio Cesar (a.k.a. ALVAREZ, Julion), Paseo de la Hacienda 443, Fracc. Los Mangos, Mazatlan, Sinaloa, Mexico; Ontario 1102, Col. Providencia, Guadalajara, Jalisco 44630, Mexico; Coras 3644, Col. Monraz, Guadalajara, Jalisco 44670, Mexico; Av. Manuel Acuna 3497, Col. Rinconada Santa Rita, Guadalajara, Jalisco 44690, Mexico; DOB 11 Apr 1983; POB La Concordia, Chiapas, Mexico; citizen Mexico; Web site www.julionalvarez.net; Gender Male; R.F.C. AAMJ8304112F0 (Mexico); C.U.R.P. AAMJ830411HCSLNL05 (Mexico) (individual) [SDNTK] (Linked To: JCAM EDITORA MUSICAL, S.A. DE C.V.; Linked To: NORYBAN PRODUCTIONS, S.A. DE C.V.; Linked To: TICKET BOLETO, S.A. DE C.V.; Linked To: FLORES DRUG TRAFFICKING ORGANIZATION). Designated pursuant to section 805(b)(3) of the Kingpin Act, 21 U.S.C. 1904(b)(3), for being owned, controlled, or directed by, or acting for or on behalf of, Raul FLORES HERNANDEZ and the FLORES DRUG TRAFFICKING ORGANIZATION.

2. ALVAREZ PERALTA, Fernando Gustavo, Guadalajara, Jalisco, Mexico; DOB 23 Jan 1961; citizen Bolivia; Gender Male; R.F.C. AAPF610123BJ0 (Mexico); NIT # 2970301015 (Bolivia); C.U.R.P. AAPF610123HNELRR02 (Mexico); Residency Number 0434529 (Mexico) (individual) [SDNTK] (Linked To: FLORES DRUG TRAFFICKING ORGANIZATION). Designated pursuant to section 805(b)(2) of the Kingpin Act, 21 U.S.C. 1904(b)(2), for materially assisting in, or providing financial or technological support for or to, or providing goods or services in support of, the international narcotics trafficking activities of Raul FLORES HERNANDEZ and the FLORES DRUG TRAFFICKING ORGANIZATION; and designated pursuant to section 805(b)(3) of the Kingpin Act, 21 U.S.C. 1904(b)(3), for being owned, controlled, or directed by, or acting for or on behalf of, Raul FLORES HERNANDEZ and the FLORES DRUG TRAFFICKING ORGANIZATION.

3. AYALA ROMERO, Diego, Mexico; DOB 27 Nov 1974; POB Acatic, Jalisco, Mexico; citizen Mexico; Gender Male; R.F.C. AARD7411274XA (Mexico); C.U.R.P. AARD741127HJCYMG09 (Mexico) (individual) [SDNTK] (Linked To: FLORES DRUG TRAFFICKING ORGANIZATION). Designated pursuant to section 805(b)(2) of the Kingpin Act, 21 U.S.C. 1904(b)(2), for materially assisting in, or providing financial or technological support for or to, or providing goods or services in support of, the international narcotics trafficking activities of Raul FLORES HERNANDEZ and the FLORES DRUG TRAFFICKING ORGANIZATION; and designated pursuant to section 805(b)(3) of the Kingpin Act, 21 U.S.C. 1904(b)(3), for being owned, controlled, or directed by, or acting for or on behalf of, Raul FLORES HERNANDEZ and the FLORES DRUG TRAFFICKING ORGANIZATION.

4. CAMPOS TIRADO, Linda Elizabeth, Mexico; DOB 20 Sep 1980; POB Ahome, Sinaloa, Mexico; citizen Mexico; Gender Female; R.F.C. CATL800920L32 (Mexico); C.U.R.P. CATL800920MSLMRN02 (Mexico) (individual) [SDNTK] (Linked To: FLORES DRUG TRAFFICKING ORGANIZATION). Designated pursuant to section 805(b)(2) of the Kingpin Act, 21 U.S.C. 1904(b)(2), for materially assisting in, or providing financial or technological support for or to, or providing goods or services in support of, the international narcotics trafficking activities of Raul FLORES HERNANDEZ and the FLORES DRUG TRAFFICKING ORGANIZATION; and designated pursuant to section 805(b)(3) of the Kingpin Act, 21 U.S.C. 1904(b)(3), for being owned, controlled, or directed by, or acting for or on behalf of, Raul FLORES HERNANDEZ and the FLORES DRUG TRAFFICKING ORGANIZATION.

5. CARO URIAS, Efrain, Av. de las Americas 2000-607, Col. Vista del Country, Guadalajara, Jalisco, Mexico; Av. Americas 2000-7, Col. Vistas del Country, Guadalajara, Jalisco, Mexico; Jose Maria Vigil 2830, Col. Providencia, Guadalajara, Jalisco, Mexico; Av. Americas 1417-A, Col. Providencia, Guadalajara, Jalisco 44630, Mexico; Av. Americas 1417-B, Col. Providencia, Guadalajara, Jalisco 44630, Mexico; Giovanni Papini 364-B, Col. Jardines de la Patria, Zapopan, Jalisco 45110, Mexico; Calle San Gonzalo 1970-43, Col. Santa Isabel, Zapopan, Jalisco, Mexico; Los Cerezos 86, Coto 3, Col. Jardin Real, Zapopan, Jalisco, Mexico; Paseo Puesta del Sol 4282-6, Col. Lomas Altas, Zapopan, Jalisco 45110, Mexico; DOB 11 Apr 1974; POB Guadalajara, Jalisco, Mexico; citizen Mexico; Gender Male; R.F.C. CAUE740411RG0 (Mexico); C.U.R.P. CAUE740411HJCRRF07 (Mexico) (individual) [SDNTK] (Linked To: FLORES DRUG TRAFFICKING ORGANIZATION; Linked To: LOLA LOLITA 1110, S. DE R.L. DE C.V.; Linked To: MARIMBA ENTERTAINMENT, S.R.L. DE C.V.; Linked To: NOCTURNUM INC, S. DE R.L. DE C.V.). Designated pursuant to section 805(b)(2) of the Kingpin Act, 21 U.S.C. 1904(b)(2), for materially assisting in, or providing financial or technological support for or to, or providing goods or services in support of, the international narcotics trafficking activities of Raul FLORES HERNANDEZ and the FLORES DRUG TRAFFICKING ORGANIZATION; and designated pursuant to section 805(b)(3) of the Kingpin Act, 21 U.S.C. 1904(b)(3), for being owned, controlled, or directed by, or acting for or on behalf of, Raul FLORES HERNANDEZ and the FLORES DRUG TRAFFICKING ORGANIZATION.

6. CARO URIAS, Omar, Calle San Gonzalo 1970-43, Col. Santa Isabel, Zapopan, Jalisco, Mexico; Av. Ramon Corona 4750 Int. L-2, Col. Jardin Real, Zapopan, Jalisco, Mexico; Av. Ramon Corona 4750 Int. L-3, Col. Jardin Real, Zapopan, Jalisco, Mexico; Av. Ramon Corona 4750 Int. L-6, Col. Jardin Real, Zapopan, Jalisco, Mexico; Av. Ramon Corona 4750 Int. L-7, Col. Jardin Real, Zapopan, Jalisco, Mexico; Av. Ramon Corona 4750 Int. L-8, Col. Jardin Real, Zapopan, Jalisco, Mexico; DOB 19 Jun 1977; POB Jalisco, Mexico; citizen Mexico; Gender Male; R.F.C. CAUO770619C87 (Mexico); C.U.R.P. CAUO770619HJCRRM08 (Mexico) (individual) [SDNTK] (Linked To: FLORES DRUG TRAFFICKING ORGANIZATION; Linked To: LOLA LOLITA 1110, S. DE R.L. DE C.V.; Linked To: NOCTURNUM INC, S. DE R.L. DE C.V.). Designated pursuant to section 805(b)(2) of the Kingpin Act, 21 U.S.C. 1904(b)(2), for materially assisting in, or providing financial or technological support for or to, or providing goods or services in support of, the international narcotics trafficking activities of Raul FLORES HERNANDEZ and the FLORES DRUG TRAFFICKING ORGANIZATION; and designated pursuant to section 805(b)(3) of the Kingpin Act, 21 U.S.C. 1904(b)(3), for being owned, controlled, or directed by, or acting for or on behalf of, Raul FLORES HERNANDEZ and the FLORES DRUG TRAFFICKING ORGANIZATION.

7. CARRANZA ZEPEDA, Victor Manuel, Av. Rio Nilo 69, Col. Camichines, Tonala, Jalisco, Mexico; Calle Franz Schubert 5373, Fracc. La Estancia, Zapopan, Jalisco, Mexico; Calle Lazaro Cardenas 3050-A, Fracc. Residencial Loma Bonita, Guadalajara, Jalisco 44570, Mexico; Av. Lazaro Cardenas 3050, Col. El Retiro, Guadalajara, Jalisco 44280, Mexico; Cholula 2514, Col. Hidalgo, Ciudad Juarez, Chihuahua 32300, Mexico; DOB 15 Mar 1978; POB Tijuana, Baja California, Mexico; citizen Mexico; Gender Male; R.F.C. CAZV7803151P4 (Mexico); C.U.R.P. CAZV780315HBCRPC03 (Mexico) (individual) [SDNTK] (Linked To: FLORES DRUG TRAFFICKING ORGANIZATION). Designated pursuant to section 805(b)(2) of the Kingpin Act, 21 U.S.C. 1904(b)(2), for materially assisting in, or providing financial or technological support for or to, or providing goods or services in support of, the international narcotics trafficking activities of Raul FLORES HERNANDEZ and the FLORES DRUG TRAFFICKING ORGANIZATION; and designated pursuant to section 805(b)(3) of the Kingpin Act, 21 U.S.C. 1904(b)(3), for being owned, controlled, or directed by, or acting for or on behalf of, Raul FLORES HERNANDEZ and the FLORES DRUG TRAFFICKING ORGANIZATION.

8. CARRANZA ZEPEDA, Hugo Ivan, Av. Rio Nilo 69, Col. Camichines, Tonala, Jalisco, Mexico; Franz Schubert 5373, Col. La Estancia, Zapopan, Jalisco 45030, Mexico; Franz Schubert 7373, Col. La Estancia, Zapopan, Jalisco, Mexico; Economos 6617-35, Col. Rinconada del Parque, Zapopan, Jalisco, Mexico; Mixcoatl 1371, Col. Ciudad del Sol, Zapopan, Jalisco 45050, Mexico; DOB 03 Mar 1982; POB Zapopan, Jalisco, Mexico; citizen Mexico; Gender Male; R.F.C. CAZH820303JF9 (Mexico); C.U.R.P. CAZH820303HJCRPG02 (Mexico); alt. C.U.R.P. CAZH820303HJCRPG10 (Mexico) (individual) [SDNTK] (Linked To: FLORES DRUG TRAFFICKING ORGANIZATION; Linked To: CAMELIAS BAR, S.A. DE C.V.; Linked To: EVENTOS LA MORA, S.A. DE C.V.; Linked To: COMERCIALIZADORA CHAPALA AJIJIC, S.A. DE C.V.; Linked To: CONSORCIO LUNALO, S.A. DE C.V.; Linked To: CONSORCIO NUJOMA, SOCIEDAD CIVIL; Linked To: CONSORCIO RIRFUS, S.A. DE C.V.; Linked To: CORPORATIVO ARZACA, S.C.; Linked To: CORPORATIVO FEARFI, S.A. DE C.V.; Linked To: CORPORATIVO SOSVAL, S.A. DE C.V.; Linked To: GRUPO EGMONT, S.A. DE C.V.; Linked To: GRUPO PRODUCSIL, S.P.R. DE R.L. DE C.V.; Linked To: RESTAURANT FOLKLOR Y CANTINA, S.A. DE C.V.; Linked To: RODRIGUEZ LOPEZ, S.A. DE C.V.; Linked To: SERVICIOS EMPRESARIALES SODA, S.A. DE C.V.). Designated pursuant to section 805(b)(3) of the Kingpin Act, 21 U.S.C. 1904(b)(3), for being owned, controlled, or directed by, or acting for or on behalf of, Raul FLORES HERNANDEZ and the FLORES DRUG TRAFFICKING ORGANIZATION and EVENTOS LA MORA, S.A. DE C.V. and CAMELIAS BAR, S.A. DE C.V.

9. CHAVEZ MARTINEZ, Maria Icela (a.k.a. CHAVEZ MARTINEZ, Ma Isela; a.k.a. CHAVEZ MARTINEZ, Maria Isela), Tchaikovsky 474, Col. Arcos de Guadalupe, Zapopan, Jalisco, Mexico; Piotr Tchaikovski 474, Col. Arcos de Guadalupe, Zapopan, Jalisco 45030, Mexico; Av. Sebastian Bach 5115, Col. Residencial La Estancia, Zapopan, Jalisco, Mexico; Av. Chapalita 50, Col. Jardines Plaza del Sol, Guadalajara, Jalisco, Mexico; Cam 1, Col. San Patricio o Melaque, San Patricio o Melaque, Jalisco 48980, Mexico; DOB 07 Nov 1967; POB Guadalajara, Jalisco, Mexico; citizen Mexico; Gender Female; R.F.C. CAMI671107GZA (Mexico); alt. R.F.C. CAMI671107MY5 (Mexico); C.U.R.P. CAMI671107MJCHRC07 (Mexico); alt. C.U.R.P. CAMI671107MJCHRS06 (Mexico) (individual) [SDNTK] (Linked To: FLORES DRUG TRAFFICKING ORGANIZATION; Linked To: A & S CARRIER INTERNACIONAL, S.A. DE C.V.; Linked To: BOUNGALOWS VILLA AZUL, S.A. DE C.V.; Linked To: CLUB DEPORTIVO MORUMBI, ASOCIACION CIVIL). Designated pursuant to section 805(b)(3) of the Kingpin Act, 21 U.S.C. 1904(b)(3), for being owned, controlled, or directed by, or acting for or on behalf of, Raul FLORES HERNANDEZ and the FLORES DRUG TRAFFICKING ORGANIZATION.

10. CORDERO CARDENAS, Jose Antonio, C Eca Do Queiros 5522, Col. Vallarta Universidad, Zapopan, Jalisco 45110, Mexico; Privada Juan de la Barrera 1727, Col. Ninos Heroes, Guadalajara, Jalisco, Mexico; DOB 01 Dec 1957; POB Guadalajara, Jalisco, Mexico; citizen Mexico; Gender Male; R.F.C. COCA571201JV2 (Mexico); Credencial electoral CRCRAN57120114H000 (Mexico); C.U.R.P. COCA571201HJCRRN19 (Mexico); alt. C.U.R.P. COCA571201HJCRRN01 (Mexico); I.F.E. 3087029297960 (Mexico) (individual) [SDNTK] (Linked To: FLORES DRUG TRAFFICKING ORGANIZATION; Linked To: CIRCULO REPRESENTACIONES INTERNACIONALES, S. DE R.L. DE C.V.; Linked To: CORPORATIVO INMOBILIARIO UNIVERSAL, S.A. DE C.V.; Linked To: FC GRUPO EMPRESARIAL, S.A. DE C.V.; Linked To: GRUPO GASOLINERO COJIM, S.A. DE C.V.; Linked To: INMOBILIARIA FLORES CASTRO, S. DE R.L. DE C.V.; Linked To: RODRIGUEZ LOPEZ, S.A. DE C.V.). Designated pursuant to section 805(b)(2) of the Kingpin Act, 21 U.S.C. 1904(b)(2), for materially assisting in, or providing financial or technological support for or to, or providing goods or services in support of, the international narcotics trafficking activities of Raul FLORES HERNANDEZ and the FLORES DRUG TRAFFICKING ORGANIZATION; and designated pursuant to section 805(b)(3) of the Kingpin Act, 21 U.S.C. 1904(b)(3), for being owned, controlled, or directed by, or acting for or on behalf of, Raul FLORES HERNANDEZ and the FLORES DRUG TRAFFICKING ORGANIZATION.

11. DAMIAN RAMIREZ, Irma Lizet, Dominico Scarlatti 260, Col. Vallarta La Patria, Zapopan, Jalisco, Mexico; Montevideo 2590, Col. Providencia, Guadalajara, Jalisco, Mexico; Av. Universidad 1151 Int. 3-H, Col. Puerta Aqua, Zapopan, Jalisco, Mexico; DOB 04 Apr 1981; POB Tecuala, Nayarit, Mexico; citizen Mexico; Gender Female; R.F.C. DARI810404P98 (Mexico); C.U.R.P. DARI810404MJCMMR00 (Mexico); alt. C.U.R.P. DARI810404MNTMMR04 (Mexico) (individual) [SDNTK] (Linked To: FLORES DRUG TRAFFICKING ORGANIZATION; Linked To: CONSORCIO VINICOLA DE OCCIDENTE, S.A. DE C.V.). Designated pursuant to section 805(b)(3) of the Kingpin Act, 21 U.S.C. 1904(b)(3), for being owned, controlled, or directed by, or acting for or on behalf of, Raul FLORES HERNANDEZ and the FLORES DRUG TRAFFICKING ORGANIZATION.

12. FERNANDEZ SANTANA, Mario Alberto, Av. Moctezuma 4297, Col. Jardines del Sol, Zapopan, Jalisco, Mexico; DOB 09 May 1977; POB Guadalajara, Jalisco, Mexico; citizen Mexico; Gender Male; R.F.C. FESM770509RQ7 (Mexico); C.U.R.P. FESM770509HJCRNR06 (Mexico) (individual) [SDNTK] (Linked To: FLORES DRUG TRAFFICKING ORGANIZATION; Linked To: EVENTOS LA MORA, S.A. DE C.V.; Linked To: MONTALVA INMOBILIARIA, S.A. DE C.V.). Designated pursuant to section 805(b)(3) of the Kingpin Act, 21 U.S.C. 1904(b)(3), for being owned, controlled, or directed by, or acting for or on behalf of, Raul FLORES HERNANDEZ and the FLORES DRUG TRAFFICKING ORGANIZATION and EVENTOS LA MORA, S.A. DE C.V.

13. FLORES TINAJERO, Saul, Mexico; DOB 23 Aug 1975; POB Guadalajara, Jalisco, Mexico; citizen Mexico; Gender Male; R.F.C. FOTS7508237W0 (Mexico); C.U.R.P. FOTS750823HJCLNL01 (Mexico) (individual) [SDNTK] (Linked To: FLORES DRUG TRAFFICKING ORGANIZATION). Designated pursuant to section 805(b)(2) of the Kingpin Act, 21 U.S.C. 1904(b)(2), for materially assisting in, or providing financial or technological support for or to, or providing goods or services in support of, the international narcotics trafficking activities of Raul FLORES HERNANDEZ and the FLORES DRUG TRAFFICKING ORGANIZATION; and designated pursuant to section 805(b)(3) of the Kingpin Act, 21 U.S.C. 1904(b)(3), for being owned, controlled, or directed by, or acting for or on behalf of, Raul FLORES HERNANDEZ and the FLORES DRUG TRAFFICKING ORGANIZATION.

14. FLORES HERNANDEZ, Raul (a.k.a. CASAS LINARES, Miguel), Distrito Federal, Mexico; Guadalajara, Jalisco, Mexico; Calle Piotr Tchaikovski 474, Col. Arcos de Guadalupe, Zapopan, Jalisco 45030, Mexico; Av. Sebastian Bach 5115, Col. Residencial La Estancia, Zapopan, Jalisco, Mexico; Av. Chapalita 50, Col. Jardines Plaza del Sol, Guadalajara, Jalisco, Mexico; Calle 72, Panfilo Perez, 750 Sector Libertad, Col. Blanco y Cuellar, Guadalajara, Jalisco 44730, Mexico; Calle Llamarada 193, Fracc. Residencial Sumiya, Jiutepec, Morelos 62560, Mexico; Zaragoza Sur 201, Col. Centro, San Martin Texmelucan, Puebla 74000, Mexico; DOB 03 Oct 1952; alt. DOB 05 Mar 1951; POB Autlan de Navarro, Jalisco, Mexico; alt. POB San Martin Texmelucan, Puebla, Mexico; citizen Mexico; Gender Male; R.F.C. FOHR521003SF7 (Mexico); alt. R.F.C. FOHR510305SF7 (Mexico); C.U.R.P. FOHR521003HJCLRL07 (Mexico); alt. C.U.R.P. FOHR510305HPLLRL08 (Mexico) (individual) [SDNTK] (Linked To: FLORES DRUG TRAFFICKING ORGANIZATION). Designated pursuant to section 805(b)(1) of the Kingpin Act, 21 U.S.C. 1904(b)(1), for playing a significant role in international narcotics trafficking.

15. FLORES CHAVEZ, Kevin Sebastian, Calle Tchaikovsky 474, Col. Arcos de Guadalupe, Zapopan, Jalisco, Mexico; DOB 01 Mar 1995; POB Jalisco, Mexico; citizen Mexico; Gender Male; R.F.C. FOCK950301E94 (Mexico); C.U.R.P. FOCK950301HJCLHV00 (Mexico) (individual) [SDNTK] (Linked To: FLORES DRUG TRAFFICKING ORGANIZATION; Linked To: BOUNGALOWS VILLA AZUL, S.A. DE C.V.). Designated pursuant to section 805(b)(2) of the Kingpin Act, 21 U.S.C. 1904(b)(2), for materially assisting in, or providing financial or technological support for or to, or providing goods or services in support of, the international narcotics trafficking activities of Raul FLORES HERNANDEZ and the FLORES DRUG TRAFFICKING ORGANIZATION; and designated pursuant to section 805(b)(3) of the Kingpin Act, 21 U.S.C. 1904(b)(3), for being owned, controlled, or directed by, or acting for or on behalf of, Raul FLORES HERNANDEZ and the FLORES DRUG TRAFFICKING ORGANIZATION.

16. FLORES GOMEZ, Felipe, Mariano Abasolo 87, Autlan de Navarro Centro, Autlan de Navarro, Jalisco 48900, Mexico; Av. Fray Junipero Serra 843, Col. Alcalde Barranquitas, Guadalajara, Jalisco 44270, Mexico; Paulino Navarro 42, Col. Centro, Casimiro Castillo, Jalisco 48930, Mexico; DOB 20 Sep 1953; POB Villa Purificacion, Jalisco, Mexico; citizen Mexico; Gender Male; R.F.C. FOGF530920KX7 (Mexico); C.U.R.P. FOGF530920HJCLML09 (Mexico) (individual) [SDNTK] (Linked To: FLORES DRUG TRAFFICKING ORGANIZATION; Linked To: BOUNGALOWS VILLA AZUL, S.A. DE C.V.; Linked To: CLUB DEPORTIVO MORUMBI, ASOCIACION CIVIL). Designated pursuant to section 805(b)(2) of the Kingpin Act, 21 U.S.C. 1904(b)(2), for materially assisting in, or providing financial or technological support for or to, or providing goods or services in support of, the international narcotics trafficking activities of Raul FLORES HERNANDEZ and the FLORES DRUG TRAFFICKING ORGANIZATION; and designated pursuant to section 805(b)(3) of the Kingpin Act, 21 U.S.C. 1904(b)(3), for being owned, controlled, or directed by, or acting for or on behalf of, Raul FLORES HERNANDEZ and the FLORES DRUG TRAFFICKING ORGANIZATION.

17. FLORES CASTRO, Sendy (a.k.a. FLORES CASTRO, Sandy), Av. Ramon Corona 4750, Loc. 15, Col. Exhacienda de la Mora, Zapopan, Jalisco 45138, Mexico; Av. Ramon Corona 4750, Loc. 5, Zapopan, Jalisco 45138, Mexico; Av. Ramon Corona 4750, Zapopan, Jalisco 45019, Mexico; Tchaikovsky 474, Zapopan, Jalisco, Mexico; Piotr Tchaikovski 474, Col. Arcos de Guadalupe, Zapopan, Jalisco 45030, Mexico; Av. Sebastian Bach 5115, Col. Residencial La Estancia, Zapopan, Jalisco, Mexico; Av. Chapalita 50, Col. Jardines Plaza del Sol, Guadalajara, Jalisco, Mexico; Abraham Gonzalez 1375, Col. Sector Libertad, Zapopan, Jalisco, Mexico; DOB 10 Mar 1981; POB Guadalajara, Jalisco, Mexico; citizen Mexico; Gender Female; R.F.C. FOCS810310836 (Mexico); C.U.R.P. FOCS810310MJCLSN09 (Mexico); alt. C.U.R.P. FOCS810301MJCLSN00 (Mexico) (individual) [SDNTK] (Linked To: FLORES DRUG TRAFFICKING ORGANIZATION; Linked To: A & S CARRIER INTERNACIONAL, S.A. DE C.V.; Linked To: BOUNGALOWS VILLA AZUL, S.A. DE C.V.). Designated pursuant to section 805(b)(3) of the Kingpin Act, 21 U.S.C. 1904(b)(3), for being owned, controlled, or directed by, or acting for or on behalf of, Raul FLORES HERNANDEZ and the FLORES DRUG TRAFFICKING ORGANIZATION.

18. FLORES ESPARZA, Moises, C Playa Santiago 6041, Dep. 3, Rdcial Moctezuma PTE, Zapopan, Jalisco 45050, Mexico; DOB 14 Dec 1977; POB Tepic, Nayarit, Mexico; citizen Mexico; Gender Male; R.F.C. FOEM7712145E7 (Mexico); Credencial electoral FLESMS77121418H100 (Mexico); C.U.R.P. FOEM771214HNTLSS07 (Mexico) (individual) [SDNTK] (Linked To: FLORES DRUG TRAFFICKING ORGANIZATION). Designated pursuant to section 805(b)(2) of the Kingpin Act, 21 U.S.C. 1904(b)(2), for materially assisting in, or providing financial or technological support for or to, or providing goods or services in support of, the international narcotics trafficking activities of Raul FLORES HERNANDEZ and the FLORES DRUG TRAFFICKING ORGANIZATION; and designated pursuant to section 805(b)(3) of the Kingpin Act, 21 U.S.C. 1904(b)(3), for being owned, controlled, or directed by, or acting for or on behalf of, Raul FLORES HERNANDEZ and the FLORES DRUG TRAFFICKING ORGANIZATION.

19. FREGOSO GONZALEZ, Marco Antonio, Av. Patria 2085, Mezzanine, Col. Puerta de Hierro, Guadalajara, Jalisco 45116, Mexico; Francisco Javier Gamboa 388-201, Col. Americana, Guadalajara, Jalisco 44110, Mexico; DOB 23 Sep 1978; POB Zapopan, Jalisco, Mexico; citizen Mexico; Gender Male; Passport G01106795 (Mexico); R.F.C. FEGM780923PH4 (Mexico); C.U.R.P. FEGM780923HJCRNR01 (Mexico); alt. C.U.R.P. FEGM780923HJCRNR19 (Mexico) (individual) [SDNTK] (Linked To: GRUPO NUTRICIONAL ALHOMA, S.A. DE C.V.). Designated pursuant to section 805(b)(3) of the Kingpin Act, 21 U.S.C. 1904(b)(3), for being owned, controlled, or directed by, or acting for or on behalf of, Rafael MARQUEZ ALVAREZ.

20. HEREDIA HORNER, Mauricio, Calle Ceja de la Barranca 500-4, Fracc. Loma Real, Zapopan, Jalisco 45110, Mexico; Blvd. Puerta de Hierro 5210-6, Col. Puerta de Hierro, Zapopan, Jalisco 45116, Mexico; J.J. Martinez Aguirre 4248, Ciudad de los Ninos, Zapopan, Jalisco 45040, Mexico; Toltecas 3134, Fracc. Monraz, Guadalajara, Jalisco 44670, Mexico; Eulogio Parra 3200, Piso 2, Local 21, Fracc. Monraz, Guadalajara, Jalisco 44670, Mexico; Popocatepetl 2907-1, Col. Ciudad del Sol, Zapopan, Jalisco, Mexico; DOB 29 Jul 1978; POB Guadalajara, Jalisco, Mexico; citizen Mexico; Gender Male; R.F.C. HEHM780729FZ5 (Mexico); alt. R.F.C. HEHM780729HJC (Mexico); C.U.R.P. HEHM780729HJCRRR07 (Mexico) (individual) [SDNTK] (Linked To: ESCUELA DE FUTBOL RAFAEL MARQUEZ, ASOCIACION CIVIL; Linked To: FUTBOL Y CORAZON, ASOCIACION CIVIL; Linked To: GRUPO DEPORTIVO ALVANER, S.A. DE C.V.; Linked To: GRUPO DEPORTIVO MARQUEZ PARDO, S. DE R.L. DE C.V.; Linked To: GRUPO NUTRICIONAL ALHOMA, S.A. DE C.V.; Linked To: GRUPO TERAPEUTICO HORMARAL, S.A. DE C.V.; Linked To: GRUPO TERAPEUTICO PUERTO VALLARTA, S.A. DE C.V.; Linked To: PROSPORT & HEALTH IMAGEN, S.A. DE C.V.; Linked To: SERVICIOS EDUCATIVOS Y DE NEGOCIOS, S. DE R.L. DE C.V.). Designated pursuant to section 805(b)(3) of the Kingpin Act, 21 U.S.C. 1904(b)(3), for being owned, controlled, or directed by, or acting for or on behalf of, Rafael MARQUEZ ALVAREZ.

21. JIMENEZ HERNANDEZ, Oscar Armando, Calle Ramon Castellanos 1037-A, Col. San Isidro, Guadalajara, Jalisco, Mexico; C Emilio Rabaza 2027, Col. Blanco y Cuellar, Guadalajara, Jalisco 44730, Mexico; DOB 30 Jun 1978; POB Guadalajara, Jalisco, Mexico; citizen Mexico; Gender Male; R.F.C. JIHO780630A70 (Mexico); Credencial electoral JMHROS78063014H200 (Mexico); alt. Credencial electoral JIHO78063014H200 (Mexico); C.U.R.P. JIHO780630HJCMRS07 (Mexico); alt. C.U.R.P. JIHO780730HJCMRS06 (Mexico); I.F.E. 069582506439 (Mexico) (individual) [SDNTK] (Linked To: FLORES DRUG TRAFFICKING ORGANIZATION; Linked To: CORPORATIVO INMOBILIARIO UNIVERSAL, S.A. DE C.V.; Linked To: SERVICIOS EMPRESARIALES FICIE, S.A. DE C.V.). Designated pursuant to section 805(b)(2) of the Kingpin Act, 21 U.S.C. 1904(b)(2), for materially assisting in, or providing financial or technological support for or to, or providing goods or services in support of, the international narcotics trafficking activities of Raul FLORES HERNANDEZ and the FLORES DRUG TRAFFICKING ORGANIZATION; and designated pursuant to section 805(b)(3) of the Kingpin Act, 21 U.S.C. 1904(b)(3), for being owned, controlled, or directed by, or acting for or on behalf of, Raul FLORES HERNANDEZ and the FLORES DRUG TRAFFICKING ORGANIZATION.

22. MARQUEZ ALVAREZ, Rafael (a.k.a. MARQUEZ, Rafa), Calle Popocatepetl 2907-1, Col. Ciudad del Sol, Zapopan, Jalisco, Mexico; Toltecas 3134, Fracc. Monraz, Guadalajara, Jalisco 44670, Mexico; Av. Patria 2085, Mezzanine, Col. Puerta de Hierro, Zapopan, Jalisco 45116, Mexico; Moliere 330-303, Col. Polanco, Mexico, Distrito Federal 11560, Mexico; J.J. Martinez Aguirre 4248, Ciudad de los Ninos, Zapopan, Jalisco 45040, Mexico; Blvd. Adolfo Lopez Mateos 1810, Col. La Martinica, Leon, Guanajuato, Mexico; DOB 13 Feb 1979; POB Zamora, Michoacan de Ocampo, Mexico; citizen Mexico; Gender Male; R.F.C. MAAR7902132V4 (Mexico); C.U.R.P. MAAR790213HMNRLF03 (Mexico) (individual) [SDNTK] (Linked To: ESCUELA DE FUTBOL RAFAEL MARQUEZ, ASOCIACION CIVIL; Linked To: FUTBOL Y CORAZON, ASOCIACION CIVIL; Linked To: GRUPO DEPORTIVO ALVANER, S.A. DE C.V.; Linked To: FLORES DRUG TRAFFICKING ORGANIZATION; Linked To: GRUPO DEPORTIVO MARQUEZ PARDO, S. DE R.L. DE C.V.; Linked To: GRUPO NUTRICIONAL ALHOMA, S.A. DE C.V.; Linked To: GRUPO TERAPEUTICO HORMARAL, S.A. DE C.V.; Linked To: GRUPO TERAPEUTICO PUERTO VALLARTA, S.A. DE C.V.; Linked To: PROSPORT & HEALTH IMAGEN, S.A. DE C.V.). Designated pursuant to section 805(b)(3) of the Kingpin Act, 21 U.S.C. 1904(b)(3), for being owned, controlled, or directed by, or acting for or on behalf of, Raul FLORES HERNANDEZ and the FLORES DRUG TRAFFICKING ORGANIZATION.

Entities

1. A & S CARRIER INTERNACIONAL, S.A. DE C.V. (a.k.a. A Y S CARRIER INTERNACIONAL, S.A. DE C.V.), Zapopan, Jalisco, Mexico; Folio Mercantil No. 22839 (Jalisco) (Mexico) [SDNTK]. Designated pursuant to section 805(b)(3) of the Kingpin Act, 21 U.S.C. 1904(b)(3), for being owned, controlled, or directed by, or acting for or on behalf of, Maria Icela CHAVEZ MARTINEZ and Sendy FLORES CASTRO.

2. BOUNGALOWS VILLA AZUL, S.A. DE C.V., Guadalajara, Jalisco, Mexico; Folio Mercantil No. 18740 (Jalisco) (Mexico) [SDNTK]. Designated pursuant to section 805(b)(3) of the Kingpin Act, 21 U.S.C. 1904(b)(3), for being owned, controlled, or directed by, or acting for or on behalf of, Raul FLORES HERNANDEZ and the FLORES DRUG TRAFFICKING ORGANIZATION and Maria Icela CHAVEZ MARTINEZ and Sendy FLORES CASTRO and Kevin Sebastian FLORES CHAVEZ.

3. CAMELIAS BAR, S.A. DE C.V. (a.k.a. CAMELIAS BAR; a.k.a. LA CAMELIA RESTAURANTE & CANTINA; a.k.a. RESTAURANTE BAR LA CAMELIA; a.k.a. “LA CAMELIA”), Guadalajara, Jalisco, Mexico; Av. Chapalita 50, Guadalajara, Jalisco, Mexico; Lazaro Cardenas 2729 y Arboledas, Guadalajara, Jalisco, Mexico; Mariano Otero 1499, Col. Verde Valle, Guadalajara, Jalisco, Mexico; Folio Mercantil No. 26075 (Jalisco) (Mexico) [SDNTK]. Designated pursuant to section 805(b)(2) of the Kingpin Act, 21 U.S.C. 1904(b)(2), for materially assisting in, or providing financial or technological support for or to, or providing goods or services in support of, the international narcotics trafficking activities of Raul FLORES HERNANDEZ and the FLORES DRUG TRAFFICKING ORGANIZATION; and designated pursuant to section 805(b)(3) of the Kingpin Act, 21 U.S.C. 1904(b)(3), for being owned, controlled, or directed by, or acting for or on behalf of, Raul FLORES HERNANDEZ and the FLORES DRUG TRAFFICKING ORGANIZATION.

4. CIRCULO REPRESENTACIONES INTERNACIONALES, S. DE R.L. DE C.V., Zapopan, Jalisco, Mexico; Folio Mercantil No. 42993 (Jalisco) (Mexico) [SDNTK]. Designated pursuant to section 805(b)(3) of the Kingpin Act, 21 U.S.C. 1904(b)(3), for being owned, controlled, or directed by, or acting for or on behalf of, Raul FLORES HERNANDEZ and the FLORES DRUG TRAFFICKING ORGANIZATION and Jose Antonio CORDERO CARDENAS and EVENTOS LA MORA, S.A. DE C.V. and FC GRUPO EMPRESARIAL, S.A. DE C.V.

5. CLUB DEPORTIVO MORUMBI, ASOCIACION CIVIL (a.k.a. CLUB DEPORTIVO AUTLAN; a.k.a. CLUB DEPORTIVO MORUMBI; a.k.a. CLUB DEPORTIVO MORUMBI, A.C.; a.k.a. GUERREROS DE AUTLAN; a.k.a. PROMOTORA CULTURAL Y DEPORTIVA MORUMBI; a.k.a. “MORUMBI”), Zapopan, Jalisco, Mexico; Av. Del Bajio S/N, Col. El Bajio, Zapopan, Jalisco, Mexico; Folio Mercantil No. 4123 (Jalisco) (Mexico) [SDNTK]. Designated pursuant to section 805(b)(3) of the Kingpin Act, 21 U.S.C. 1904(b)(3), for being owned, controlled, or directed by, or acting for or on behalf of, Raul FLORES HERNANDEZ and the FLORES DRUG TRAFFICKING ORGANIZATION and Maria Icela CHAVEZ MARTINEZ and Felipe FLORES GOMEZ.

6. COMERCIALIZADORA CHAPALA AJIJIC, S.A. DE C.V., Guadalajara, Jalisco, Mexico; Folio Mercantil No. 58593 (Jalisco) (Mexico) [SDNTK]. Designated pursuant to section 805(b)(3) of the Kingpin Act, 21 U.S.C. 1904(b)(3), for being owned, controlled, or directed by, or acting for or on behalf of, Hugo Ivan CARRANZA ZEPEDA.

7. COMERCIALIZADORA E IMPORTADORA YESSI, S.A. DE C.V., Guadalajara, Jalisco, Mexico; Folio Mercantil No. 43753 (Jalisco) (Mexico) [SDNTK]. Designated pursuant to section 805(b)(3) of the Kingpin Act, 21 U.S.C. 1904(b)(3), for being owned, controlled, or directed by, or acting for or on behalf of, Raul FLORES HERNANDEZ and the FLORES DRUG TRAFFICKING ORGANIZATION.

8. CONSORCIO LUNALO, S.A. DE C.V., Guadalajara, Jalisco, Mexico; Av. Adolfo Lopez Mateos 525-C, Int. 9, Col. Ladron de Guevara, Guadalajara, Jalisco 44600, Mexico; R.F.C. CLU140217RX4 (Mexico); Folio Mercantil No. 79775 (Jalisco) (Mexico) [SDNTK]. Designated pursuant to section 805(b)(3) of the Kingpin Act, 21 U.S.C. 1904(b)(3), for being owned, controlled, or directed by, or acting for or on behalf of, Hugo Ivan CARRANZA ZEPEDA.

9. CONSORCIO NUJOMA, SOCIEDAD CIVIL (a.k.a. CONSORCIO NUJOMA, S.C.), Torreon, Coahuila, Mexico; Guadalajara, Jalisco, Mexico; Juan Salvador Agraz 1179-13, Col. Moderna, Guadalajara, Jalisco 44190, Mexico; R.F.C. CNU130416UJ3 (Mexico); Folio Mercantil No. 28153 (Jalisco) (Mexico) [SDNTK]. Designated pursuant to section 805(b)(3) of the Kingpin Act, 21 U.S.C. 1904(b)(3), for being owned, controlled, or directed by, or acting for or on behalf of, Hugo Ivan CARRANZA ZEPEDA.

10. CONSORCIO RIRFUS, S.A. DE C.V., Guadalajara, Jalisco, Mexico; Vidrio 2335-138, Col. Americana, Guadalajara, Jalisco 44160, Mexico; R.F.C. CRI130109KL8 (Mexico); Folio Mercantil No. 72346 (Jalisco) (Mexico) [SDNTK]. Designated pursuant to section 805(b)(3) of the Kingpin Act, 21 U.S.C. 1904(b)(3), for being owned, controlled, or directed by, or acting for or on behalf of, Hugo Ivan CARRANZA ZEPEDA.

11. CONSORCIO VINICOLA DE OCCIDENTE, S.A. DE C.V., Zapopan, Jalisco, Mexico; Folio Mercantil No. 10740 (Jalisco) (Mexico) [SDNTK]. Designated pursuant to section 805(b)(3) of the Kingpin Act, 21 U.S.C. 1904(b)(3), for being owned, controlled, or directed by, or acting for or on behalf of, Irma Lizet DAMIAN RAMIREZ.

12. CORPORATIVO ARZACA, S.C. (a.k.a. CORPORATIVO ARZACA, SOCIEDAD CIVIL), Av. Adolfo Lopez Mateos 525-C, Int. 4, Col. Circunvalacion Guevara, Guadalajara, Jalisco 44680, Mexico; R.F.C. CAR130927UU3 (Mexico) [SDNTK]. Designated pursuant to section 805(b)(3) of the Kingpin Act, 21 U.S.C. 1904(b)(3), for being owned, controlled, or directed by, or acting for or on behalf of, Hugo Ivan CARRANZA ZEPEDA.

13. CORPORATIVO FEARFI, S.A. DE C.V., Guadalajara, Jalisco, Mexico; Folio Mercantil No. 88504 (Jalisco) (Mexico) [SDNTK]. Designated pursuant to section 805(b)(3) of the Kingpin Act, 21 U.S.C. 1904(b)(3), for being owned, controlled, or directed by, or acting for or on behalf of, Hugo Ivan CARRANZA ZEPEDA.

14. CORPORATIVO INMOBILIARIO UNIVERSAL, S.A. DE C.V., Zapopan, Jalisco, Mexico; Cuitlahuac 435, Depto. 4, Zapopan, Jalisco 45050, Mexico; Juan Sebastian Bach 5187, Col. Residencial La Estancia, Zapopan, Jalisco, Mexico; Folio Mercantil No. 19451 (Jalisco) (Mexico) [SDNTK]. Designated pursuant to section 805(b)(3) of the Kingpin Act, 21 U.S.C. 1904(b)(3), for being owned, controlled, or directed by, or acting for or on behalf of, Jose Antonio CORDERO CARDENAS and Oscar Armando JIMENEZ HERNANDEZ.

15. CORPORATIVO SOSVAL, S.A. DE C.V., Guadalajara, Jalisco, Mexico; Nebulosa 2781, Col. Jardines del Bosque, Guadalajara, Jalisco 44520, Mexico; Nebulosa. 2781-14, Col. Jardines del Bosque, Guadalajara, Jalisco 44520, Mexico; R.F.C. CSO130410P32 (Mexico); Folio Mercantil No. 73550 (Jalisco) (Mexico) [SDNTK]. Designated pursuant to section 805(b)(3) of the Kingpin Act, 21 U.S.C. 1904(b)(3), for being owned, controlled, or directed by, or acting for or on behalf of, Hugo Ivan CARRANZA ZEPEDA.

16. ESCUELA DE FUTBOL RAFAEL MARQUEZ, ASOCIACION CIVIL (a.k.a. ESC DE FUTBOL RAFAEL MARQUEZ; a.k.a. ESCUELA DE FUTBOL RAFAEL MARQUEZ), Guadalajara, Jalisco, Mexico; Av. del Bajio 1134, Col. El Bajio, Guadalajara, Jalisco, Mexico; Del Bajio 1134, San Juan de Ocotan, Guadalajara, Jalisco, Mexico; Folio Mercantil No. 23461 (Jalisco) (Mexico) [SDNTK]. Designated pursuant to section 805(b)(3) of the Kingpin Act, 21 U.S.C. 1904(b)(3), for being owned, controlled, or directed by, or acting for or on behalf of, Rafael MARQUEZ ALVAREZ and Mauricio HEREDIA HORNER.

17. EVENTOS LA MORA, S.A. DE C.V. (a.k.a. EVENTOS LA MORA), Zapopan, Jalisco, Mexico; Lopez Mateos Sur 4527, Col. La Calma, Zapopan, Jalisco 45070, Mexico; Lopez Mateos Sur 4527, Col. Residencial Loma Bonita, Zapopan, Jalisco 45086, Mexico; Lopez Mateos Sur 4527, Tlaquepaque, Jalisco 45070, Mexico; Folio Mercantil No. 29070 (Jalisco) (Mexico) [SDNTK]. Designated pursuant to section 805(b)(3) of the Kingpin Act, 21 U.S.C. 1904(b)(3), for being owned, controlled, or directed by, or acting for or on behalf of, Raul FLORES HERNANDEZ and the FLORES DRUG TRAFFICKING ORGANIZATION.

18. FC GRUPO EMPRESARIAL, S.A. DE C.V., Guadalajara, Jalisco, Mexico; Folio Mercantil No. 42946 (Jalisco) (Mexico) [SDNTK]. Designated pursuant to section 805(b)(3) of the Kingpin Act, 21 U.S.C. 1904(b)(3), for being owned, controlled, or directed by, or acting for or on behalf of, Raul FLORES HERNANDEZ and the FLORES DRUG TRAFFICKING ORGANIZATION and Jose Antonio CORDERO CARDENAS.

19. FLORES DRUG TRAFFICKING ORGANIZATION (a.k.a. FLORES DTO), Mexico City, Distrito Federal, Mexico; Mexico; Guadalajara, Jalisco, Mexico [SDNTK]. Designated pursuant to section 805(b)(1) of the Kingpin Act, 21 U.S.C. 1904(b)(1), for playing a significant role in international narcotics trafficking.

20. FUTBOL Y CORAZON, ASOCIACION CIVIL (a.k.a. CENTRO INFANTIL RM; a.k.a. FUNDACION FUTBOL Y CORAZON, A.C.; a.k.a. FUNDACION RAFA MARQUEZ; a.k.a. FUNDACION RAFA MARQUEZ FUTBOL Y CORAZON, A.C.; a.k.a. FUTBOL Y CORAZON, A.C.; a.k.a. RAFA MARQUEZ FOUNDATION), Guadalajara, Jalisco, Mexico; Av. Xochitl 4262-6, Prados del Tepeyac, Zapopan, Jalisco 45050, Mexico; Popocatepetl 2907, Col. Ciudad del Sol, Zapopan, Jalisco 45050, Mexico; Santa Isabel 62, Col. Santa Isabel, Tonala, Jalisco, Mexico; Lic. Alfonso Garcia Robles 74, Col. Adolfo Lopez Mateos, Zamora, Michoacan, Mexico; Privada Primitivo Torres 52, Col. El Terrero, El Quince, El Salto, Jalisco 45680, Mexico; alt. Web site www.fundacionrafamarquez.org; R.F.C. FCO0505306V0 (Mexico); Folio Mercantil No. 10328 (Jalisco) (Mexico) [SDNTK]. Designated pursuant to section 805(b)(3) of the Kingpin Act, 21 U.S.C. 1904(b)(3), for being owned, controlled, or directed by, or acting for or on behalf of, Rafael MARQUEZ ALVAREZ and Mauricio HEREDIA HORNER.

21. GRAND CASINO (a.k.a. GRAND CASINO ZAPOPAN), Av. Adolfo Lopez Mateos Sur 4527, Col. La Calma, Zapopan, Jalisco 45070, Mexico [SDNTK]. Designated pursuant to section 805(b)(2) of the Kingpin Act, 21 U.S.C. 1904(b)(2), for materially assisting in, or providing financial or technological support for or to, or providing goods or services in support of, the international narcotics trafficking activities of Raul FLORES HERNANDEZ and the FLORES DRUG TRAFFICKING ORGANIZATION; and designated pursuant to section 805(b)(3) of the Kingpin Act, 21 U.S.C. 1904(b)(3), for being owned, controlled, or directed by, or acting for or on behalf of, Raul FLORES HERNANDEZ and the FLORES DRUG TRAFFICKING ORGANIZATION.

22. GRUPO DEPORTIVO ALVANER, S.A. DE C.V., Guadalajara, Jalisco, Mexico; Folio Mercantil No. 72016 (Jalisco) (Mexico) [SDNTK]. Designated pursuant to section 805(b)(3) of the Kingpin Act, 21 U.S.C. 1904(b)(3), for being owned, controlled, or directed by, or acting for or on behalf of, Rafael MARQUEZ ALVAREZ and Mauricio HEREDIA HORNER.

23. GRUPO DEPORTIVO MARQUEZ PARDO, S. DE R.L. DE C.V., Guadalajara, Jalisco, Mexico; Popocatepetl 2907-1, Col. Ciudad del Sol, Zapopan, Jalisco 45050, Mexico; R.F.C. GDM090907NE0 (Mexico); Folio Mercantil No. 51360 (Jalisco) (Mexico) [SDNTK]. Designated pursuant to section 805(b)(3) of the Kingpin Act, 21 U.S.C. 1904(b)(3), for being owned, controlled, or directed by, or acting for or on behalf of, Rafael MARQUEZ ALVAREZ and Mauricio HEREDIA HORNER.

24. GRUPO EGMONT, S.A. DE C.V., Guadalajara, Jalisco, Mexico; Fernando de Alba 765-3, Col. Chapalita, Guadalajara, Jalisco 44500, Mexico; R.F.C. GEG130219MY1 (Mexico); Folio Mercantil No. 72549 (Jalisco) (Mexico) [SDNTK]. Designated pursuant to section 805(b)(3) of the Kingpin Act, 21 U.S.C. 1904(b)(3), for being owned, controlled, or directed by, or acting for or on behalf of, Hugo Ivan CARRANZA ZEPEDA.

25. GRUPO GASOLINERO COJIM, S.A. DE C.V. (a.k.a. GRUPO COJIM, S.A. DE C.V.), Guadalajara, Jalisco, Mexico; KM 39 700 Carretera Jalostotitlan, San Julian, San Miguel El Alto, Jalisco, Mexico; Carretera Jalostotitlan San Julian KM 39.70, San Miguel El Alto, Jalisco, Mexico; KM 1.5 Carretera San Julian a San Miguel El Alto, San Julian, Jalisco 47140, Mexico; Folio Mercantil No. 79563 (Jalisco) (Mexico) [SDNTK]. Designated pursuant to section 805(b)(3) of the Kingpin Act, 21 U.S.C. 1904(b)(3), for being owned, controlled, or directed by, or acting for or on behalf of, Jose Antonio CORDERO CARDENAS.

26. GRUPO NUTRICIONAL ALHOMA, S.A. DE C.V., Guadalajara, Jalisco, Mexico; Av. Lopez Mateos Sur 1710-4, Fracc. El Palomar, Tlajomulco de Zuniga, Jalisco 45643, Mexico; R.F.C. GNA120828LL8 (Mexico); Folio Mercantil No. 69366 (Jalisco) (Mexico) [SDNTK]. Designated pursuant to section 805(b)(3) of the Kingpin Act, 21 U.S.C. 1904(b)(3), for being owned, controlled, or directed by, or acting for or on behalf of, Rafael MARQUEZ ALVAREZ and Mauricio HEREDIA HORNER and Marco Antonio FREGOSO GONZALEZ.

27. GRUPO PRODUCSIL, S.P.R. DE R.L. DE C.V. (a.k.a. GRUPO PRODUCSIL, S. DE P.R. DE R.L. DE C.V.), Guadalajara, Jalisco, Mexico; Paseo de la Arboleda 768-10, Col. Jardines del Bosque, Guadalajara, Jalisco 44520, Mexico; R.F.C. GPR140605GC0 (Mexico); Folio Mercantil No. 83061 (Jalisco) (Mexico) [SDNTK]. Designated pursuant to section 805(b)(3) of the Kingpin Act, 21 U.S.C. 1904(b)(3), for being owned, controlled, or directed by, or acting for or on behalf of, Hugo Ivan CARRANZA ZEPEDA.

28. GRUPO TERAPEUTICO HORMARAL, S.A. DE C.V. (a.k.a. GRUPO TERAPEUTICO HERMORAL, S.A. DE C.V.; a.k.a. PRO SPORT & HEALTH; a.k.a. PROSPORT & HEALTH; a.k.a. PROSPORT&HEALTH), Guadalajara, Jalisco, Mexico; Av. General Eulogio Parra 3200-21, Fracc. Terrazas Monraz, Guadalajara, Jalisco 44670, Mexico; Calle Lisboa 175, Col. Versalles, Puerto Vallarta, Jalisco, Mexico; Web site www.prosport.mx; R.F.C. GTH1206069J8 (Mexico); Folio Mercantil No. 68188 (Jalisco) (Mexico) [SDNTK]. Designated pursuant to section 805(b)(3) of the Kingpin Act, 21 U.S.C. 1904(b)(3), for being owned, controlled, or directed by, or acting for or on behalf of, Rafael MARQUEZ ALVAREZ and Mauricio HEREDIA HORNER.

29. GRUPO TERAPEUTICO PUERTO VALLARTA, S.A. DE C.V. (a.k.a. GRUPO TERAPEUTICO DE VALLARTA, S.A. DE C.V.; a.k.a. PROSPORT & HEALTH), Puerto Vallarta, Jalisco, Mexico; Lisboa 175, Col. Versalles, Puerto Vallarta, Jalisco 48320, Mexico; Folio Mercantil No. 16405 (Jalisco) (Mexico) [SDNTK]. Designated pursuant to section 805(b)(3) of the Kingpin Act, 21 U.S.C. 1904(b)(3), for being owned, controlled, or directed by, or acting for or on behalf of, Rafael MARQUEZ ALVAREZ and Mauricio HEREDIA HORNER.

30. INMOBILIARIA FLORES CASTRO, S. DE R.L. DE C.V. (a.k.a. INMOVILIARIA FLORES CASTRO, S. DE R.L. DE C.V.), Zapopan, Jalisco, Mexico; Folio Mercantil No. 42969 (Jalisco) (Mexico) [SDNTK]. Designated pursuant to section 805(b)(3) of the Kingpin Act, 21 U.S.C. 1904(b)(3), for being owned, controlled, or directed by, or acting for or on behalf of, Raul FLORES HERNANDEZ and the FLORES DRUG TRAFFICKING ORGANIZATION and Jose Antonio CORDERO CARDENAS and FC GRUPO EMPRESARIAL, S.A. DE C.V.

31. JCAM EDITORA MUSICAL, S.A. DE C.V., Mazatlan, Sinaloa, Mexico; Av. Manuel Acuna 3497, Terrazas Monraz, Guadalajara, Jalisco 44670, Mexico; Folio Mercantil No. 19365 (Sinaloa) (Mexico) [SDNTK]. Designated pursuant to section 805(b)(3) of the Kingpin Act, 21 U.S.C. 1904(b)(3), for being owned, controlled, or directed by, or acting for or on behalf of, Julio Cesar ALVAREZ MONTELONGO.

32. LOLA LOLITA 1110, S. DE R.L. DE C.V. (a.k.a. LOLALOLITA 1110, S. DE R.L. DE C.V.), Av. Vallarta 1110, Col. Americana, Guadalajara, Jalisco 44160, Mexico; Guadalajara, Jalisco, Mexico; Web site www.lolalolita.com; Folio Mercantil No. 60645 (Jalisco) (Mexico) [SDNTK]. Designated pursuant to section 805(b)(3) of the Kingpin Act, 21 U.S.C. 1904(b)(3), for being owned, controlled, or directed by, or acting for or on behalf of, Efrain CARO URIAS and Omar CARO URIAS.

33. MARIMBA ENTERTAINMENT, S.R.L. DE C.V., Guadalajara, Jalisco, Mexico; Folio Mercantil No. 52828 (Jalisco) (Mexico) [SDNTK]. Designated pursuant to section 805(b)(3) of the Kingpin Act, 21 U.S.C. 1904(b)(3), for being owned, controlled, or directed by, or acting for or on behalf of, Efrain CARO URIAS.

34. MONTALVA INMOBILIARIA, S.A. DE C.V., Guadalajara, Jalisco, Mexico; Folio Mercantil No. 77704 (Jalisco) (Mexico) [SDNTK]. Designated pursuant to section 805(b)(3) of the Kingpin Act, 21 U.S.C. 1904(b)(3), for being owned, controlled, or directed by, or acting for or on behalf of, Mario Alberto FERNANDEZ SANTANA.

35. NOCTURNUM INC, S. DE R.L. DE C.V. (a.k.a. CORTEZ COCINA AUTENTICA; a.k.a. NOCTURN INC, S. DE R.L. DE C.V.; a.k.a. “CORTEZ”; a.k.a. “EL CORTEZ”; a.k.a. “RESTAURANT CORTEZ”; a.k.a. “RESTAURANTE CORTEZ”), Guadalajara, Jalisco, Mexico; Diagonal San Jorge 100, Guadalajara, Jalisco, Mexico; Av. Americas 1417-B, Col. Providencia 2A Seccion, Guadalajara, Jalisco 44630, Mexico; Web site www.cortez.com.mx; RFC NIN130327JBO (Mexico); Folio Mercantil No. 74711 (Jalisco) (Mexico) [SDNTK]. Designated pursuant to section 805(b)(3) of the Kingpin Act, 21 U.S.C. 1904(b)(3), for being owned, controlled, or directed by, or acting for or on behalf of, Raul FLORES HERNANDEZ and the FLORES DRUG TRAFFICKING ORGANIZATION and Efrain CARO URIAS and Omar CARO URIAS.

36. NORYBAN PRODUCTIONS, S.A. DE C.V., Mazatlan, Sinaloa, Mexico; Av. Gutierrez Najera 104 Altos, Centro, Mazatlan, Sinaloa 82000, Mexico; Coras 3644, Guadalajara, Jalisco 44670, Mexico; Calle Manuel Acuna 3497, Col. Santa Rita, Guadalajara, Jalisco 44690, Mexico; Ontario 1102, Col. Providencia, Guadalajara, Jalisco 44630, Mexico; R.F.C. NPR0903058I3 (Mexico); Folio Mercantil No. 18949 (Sinaloa) (Mexico) [SDNTK]. Designated pursuant to section 805(b)(3) of the Kingpin Act, 21 U.S.C. 1904(b)(3), for being owned, controlled, or directed by, or acting for or on behalf of, Julio Cesar ALVAREZ MONTELONGO.

37. PROSPORT & HEALTH IMAGEN, S.A. DE C.V. (a.k.a. PROSPORT & HEALTH, S.A. DE C.V.; a.k.a. PROSPORT Y HEALTH IMAGEN, S.A. DE C.V.), Guadalajara, Jalisco, Mexico; Calle Golfo de Cortes 4114, Local 4 y 5, Col. Monraz, Guadalajara, Jalisco 44670, Mexico; Web site www.pshimagen.mx; R.F.C. PAH130925LG0 (Mexico); alt. R.F.C. PAH130925IG0 (Mexico); Folio Mercantil No. 77129 (Jalisco) (Mexico) [SDNTK]. Designated pursuant to section 805(b)(3) of the Kingpin Act, 21 U.S.C. 1904(b)(3), for being owned, controlled, or directed by, or acting for or on behalf of, Rafael MARQUEZ ALVAREZ and Mauricio HEREDIA HORNER.

38. RESTAURANT FOLKLOR Y CANTINA, S.A. DE C.V. (a.k.a. RESTAURANTE FOLKLOR Y CANTINA), Guadalajara, Jalisco, Mexico; Av. Manuel J. Clouthier 1614, Col. Jardines de Guadalupe, Zapopan, Jalisco, Mexico; Folio Mercantil No. 60417 (Jalisco) (Mexico) [SDNTK]. Designated pursuant to section 805(b)(3) of the Kingpin Act, 21 U.S.C. 1904(b)(3), for being owned, controlled, or directed by, or acting for or on behalf of, Hugo Ivan CARRANZA ZEPEDA.

39. RODRIGUEZ LOPEZ, S.A. DE C.V., Guadalajara, Jalisco, Mexico; Carr. San Julian KM 1.5, San Miguel El Alto, San Julian, Jalisco 47170, Mexico; R.F.C. RLO960524C18 (Mexico); Folio Mercantil No. 12651 (Jalisco) (Mexico) [SDNTK]. Designated pursuant to section 805(b)(3) of the Kingpin Act, 21 U.S.C. 1904(b)(3), for being owned, controlled, or directed by, or acting for or on behalf of, Hugo Ivan CARRANZA ZEPEDA and Jose Antonio CORDERO CARDENAS.

40. SERVICIOS EDUCATIVOS Y DE NEGOCIOS, S. DE R.L. DE C.V., Zapopan, Jalisco, Mexico; Folio Mercantil No. 51560 (Jalisco) (Mexico) [SDNTK]. Designated pursuant to section 805(b)(3) of the Kingpin Act, 21 U.S.C. 1904(b)(3), for being owned, controlled, or directed by, or acting for or on behalf of, Mauricio HEREDIA HORNER.

41. SERVICIOS EMPRESARIALES FICIE, S.A. DE C.V., Guadalajara, Jalisco, Mexico; Folio Mercantil No. 84399 (Jalisco) (Mexico) [SDNTK]. Designated pursuant to section 805(b)(3) of the Kingpin Act, 21 U.S.C. 1904(b)(3), for being owned, controlled, or directed by, or acting for or on behalf of, Oscar Armando JIMENEZ HERNANDEZ.

42. SERVICIOS EMPRESARIALES SODA, S.A. DE C.V., Guadalajara, Jalisco, Mexico; Folio Mercantil No. 82219 (Jalisco) (Mexico) [SDNTK]. Designated pursuant to section 805(b)(3) of the Kingpin Act, 21 U.S.C. 1904(b)(3), for being owned, controlled, or directed by, or acting for or on behalf of, Hugo Ivan CARRANZA ZEPEDA.

43. TICKET BOLETO, S.A. DE C.V., Guadalajara, Jalisco, Mexico; Folio Mercantil No. 88198 (Jalisco) (Mexico) [SDNTK]. Designated pursuant to section 805(b)(3) of the Kingpin Act, 21 U.S.C. 1904(b)(3), for being owned, controlled, or directed by, or acting for or on behalf of, Julio Cesar ALVAREZ MONTELONGO.

Dated: August 9, 2017.
Andrea Gacki,
Acting Director, Office of Foreign Assets Control.

[FR Doc. 2017-17083 Filed 8-11-17; 8:45 am]

BILLING CODE 4810-AL-P